DEPARTMENT OF LABOR

Employment and Training Administration

[TA-W-74,859]

The Mega Life & Health Ins. Co., a Subsidiary of Healthmarkets, Inc., Including Workers Whose Unemployment Insurance (UI) Wages Are Paid Through Insphere Insurance Solutions, Inc., Including On-Site Leased Workers From Computer Solutions and Software International, Inc., Dell Service Sales, Emdeon Business Services, KFORCE, Microsoft, Pariveda Solutions, Inc., Perot Systems, Corp., Premius Credit Corp., Socrates, Inc., Sogeti USA, LLC, the Z Group, Inc., Verizon, and Viant Payments Systems, North Richland Hills, TX; Amended Certification Regarding Eligibility To Apply for Worker Adjustment Assistance

In accordance with Section 223 of the Trade Act of 1974, as amended (“Act”), 19 U.S.C. 2273, the Department of Labor issued a Certification of Eligibility to Apply for Worker Adjustment Assistance on December 3, 2010, applicable to workers of The MEGA Life & Health Ins., Co., a subsidiary of HealthMarkets, Inc., including on-site leased workers from Computer Solutions and Software International, Inc., Dell Service Sales, Emdeon Business Services, KFORCE, Microsoft, Pariveda Solutions, Inc., Perot Systems Corp., Premium Credit Corp., Socrates, Inc., Sogeti USA, LLC, The Z Group, Inc., Verizon, and Viant Payments Systems, North Richland, Texas. The notice was published in the Federal Register on December 13, 2010 (75 FR 77668).

At the request of the State agency, the Department reviewed the certification for workers of the subject firm. The workers provide insurance claims processing.

Information shows that some workers separated from employment at the North Richland Hills, Texas location of The MEGA Life & Health Ins. Co., a subsidiary of HealthMarkets, Inc. had their wages reported under a separated unemployment insurance (UI) tax account under the name Insphere Insurance Solutions, Inc.

Accordingly, the Department is amending this certification to properly reflect this matter.

The intent of the Department's certification is to include all workers of the subject firm who were adversely affected by the acquisition of services from a foreign country.

The amended notice applicable to TA-W-74,859 is hereby issued as follows:

All workers of MEGA Life & Health Ins., Co., a subsidiary of HealthMarkets, Inc., including workers whose unemployment insurance (UI) wages are paid through Insphere Insurance Solutions, Inc., including on-site leased workers from Computer Solutions and Software International, Inc., Dell Service Sales, Emdeon Business Services, KFORCE, Microsoft, Pariveda Solutions, Inc., Perot Systems Corp., Premium Credit Corp., Socrates, Inc., Sogeti USA, LLC, The Z Group, Inc., Verizon, and Viant Payments Systems, North Richland Hills, Texas, who became totally or partially separated from employment on or after November 1, 2009 through December 3, 2012, and all workers in the group threatened with total or partial separation from employment on date of certification through two years from the date of certification, are eligible to apply for adjustment assistance under Chapter 2 of Title II of the Trade Act of 1974, as amended.

Signed at Washington, DC this 2nd day of March, 2011.
Michael W. Jaffe,
Certifying Officer, Office of Trade Adjustment Assistance.

[FR Doc. 2011-5661 Filed 3-11-11; 8:45 am]

BILLING CODE 4510-FN-P